DEPARTMENT OF THE TREASURY

Internal Revenue Service

26 CFR Part 1

[REG-108676-03]

RIN 1545-BC00

Distributions of Interest in a Loss Corporation From Qualified Trust; Correction

AGENCY: Internal Revenue Service (IRS), Treasury.

ACTION: Correction to a notice of proposed rulemaking; by cross-reference to temporary regulations and notice of public hearing.

SUMMARY: This document contains regulations under section 382 of the Internal Revenue Code of 1986. The proposed regulations affect loss corporations and provide guidance on whether a loss corporation has an ownership change where a qualified trust described in section 401(a) distributes an ownership interest in an entity.

FOR FURTHER INFORMATION CONTACT: Martin Huck at (202) 622-7750 (not a toll-free number).

SUPPLEMENTARY INFORMATION:

Background

The proposed regulations that are the subject of these corrections are under section 382 of the Internal Revenue Code.

Need for Correction

As published, this notice of proposed rulemaking by cross-reference to temporary regulations and notice of public hearing contains errors that may prove to be misleading and are in need of clarification.

Correction of Publication

Accordingly, the publication of the notice of proposed rulemaking by cross-reference to temporary regulations and notice of public hearing (REG-108676-03), which is the subject of FR. Doc. 03-16230, is corrected as follows:

1. On page 38247, column 3, in the preamble, under the subject heading ADDRESSES, line 3, the language “5226, Internal Revenue Service, POB” is corrected to read “5207, Internal Revenue Service, POB”.

2. On page 38248, column 1, in the preamble, under the subject heading FOR FURTHER INFORMATION CONTACT, line 5, the language “Treena Garrett, (202) 622-7180 (not toll-” is corrected to read “Treena Garrett, (202) 622-3401 (not toll-”.

LaNita Van Dyke,
Acting Chief, Regulations Unit, Associate Chief Counsel (Procedure and Administration).

[FR Doc. 03-21356 Filed 8-19-03; 8:45 am]

BILLING CODE 4830-01-P